DEPARTMENT OF HEALTH AND HUMAN SERVICES

National Institutes of Health

National Institute of General Medical Sciences Amended; Notice of Meeting

Notice is hereby given of a change in the meeting of the Training and Workforce Development Subcommittee—A, June 15, 2017, 8:00 a.m. to June 16, 2017, 5:00 p.m., Cambria Suites Rockville, 1 Helen Heneghan Way, Rockville, MD 20850 which was published in the Federal Register on April 11, 2017, 82 FR 17436.

The meeting notice is amended to change the date of the meeting from June 15-16, 2017 to June 15, 2017. The meeting is closed to the public.

Dated: June 6, 2017.
Melanie J. Pantoja,
Program Analyst, Office of Federal Advisory Committee Policy.

[FR Doc. 2017-12146 Filed 6-12-17; 8:45 am]

BILLING CODE 4140-01-P